DEPARTMENT OF COMMERCE

National Oceanic and Atmospheric Administration

RIN 0648-XF281

Western Pacific Fishery Management Council; Public Meetings

AGENCY: National Marine Fisheries Service (NMFS), National Oceanic and Atmospheric Administration (NOAA), Commerce.

ACTION: Notice of public meetings.

SUMMARY: The Western Pacific Fishery Management Council (Council) will hold meetings of its Protected Species Advisory Committee (PSAC), Social Science Planning Committee (SSPC) and Marine Planning and Climate Change Committee (MPCCC) to review relevant sections of the draft 2016 annual reports for the Pacific Pelagic Fishery Ecosystem Plan (FEP), American Samoa Archipelago FEP, Hawaii FEP, Mariana Archipelago FEP and Pacific Remote Island Areas (PRIA) FEP. The committees will also receive updates on matters related to fishery management and may make recommendations on these topics.

DATES: The PSAC meeting will be held between 9 a.m. and 5 p.m. on March 30-31, 2017. The SSPC will be held between 10 a.m. and 4 p.m. on April 3, 2017. The MPCCC meeting will be held between 8:30 a.m. and 5 p.m. on April 5-6, 2017. For specific times and agendas, see SUPPLEMENTARY INFORMATION.

ADDRESSES: The PSAC and MPCCC meetings will be held at the Council office, 1164 Bishop Street, Suite 1400, Honolulu, HI 96813, phone: (808) 522-8220. The SPCC meeting will be held at the Council office and by teleconference at (888) 482-3560; Passcode: 5228220.

FOR FURTHER INFORMATION CONTACT: Kitty M. Simonds, Executive Director; phone: (808) 522-8220.

SUPPLEMENTARY INFORMATION: Public comment periods will be provided throughout the agendas. The order in which agenda items are addressed may change. The meetings will run as late as necessary to complete scheduled business.

Agenda for the PSAC Meeting

9 a.m.-5 p.m., Thursday, March 30, 2017

1. Welcome and Introductions

2. Approval of Agenda

3. Status of the Third Protected Species Advisory Committee Meeting Recommendations

4. Review of the Draft 2016 FEP Annual Report

A. Overview of the 2016 Annual Report Updates

i. Data integration chapter development

ii. Ecosystem chapter updates

B. Pelagic Longline Fishery Sections

i. Summary of relevant fishery data

ii. Protected species section

iii. Discussion and synthesis

C. Pelagic Non-longline Fishery Sections

i. Summary of relevant fishery data

ii. Protected species section

iii. Discussion and synthesis

D. Insular Fishery Sections

i. Summary of relevant fishery data

ii. Protected species section

iii. Discussion and synthesis

E. Discussion on Emerging Issues

F. Discussion on Data Gaps and Research Needs

5. Public Comment

9 a.m.-5 p.m., Friday, March 31, 2017

6. Fisheries and Protected Species Management Updates

A. Recent Council Actions

i. Pelagic fisheries actions

ii. Insular fisheries actions

iii. Discussion

B. Council Protected Species Activities Update

i. Seabird interactions in the Hawaii deep-set longline fishery

ii. Rare events bycatch workshop

iii. Other updates

C. Endangered Species Act (ESA) Updates

i. Section 7 ESA consultations for pelagic and insular fisheries

ii. ESA listing and other related actions

iii. Discussion

7. Council's Research Priorities

A. Five-year Research Priorities

B. Cooperative Research Priorities

C. Discussion

8. Public Comment

9. Committee Discussion and Recommendations

10. Other Business & Next Meeting

Agenda for the SSPC Meeting

10 a.m.-4 p.m., Monday, April 3, 2017

1. Welcome and Introductions

2. New Emerging Issues by Region

A. American Samoa

B. CNMI

C. Guam

D. Hawaii

3. Review of the Stock Assessment and Fisheries Evaluation (SAFE) Report Draft Human Dimensions Sections

4. Status of Ongoing Research Projects and Grant Solicitations

A. Bottomfishing History Project

B. Update on Saltonstall-Kennedy (SK) Proposals

C. Update on NOAA Preserve America Grant Proposals

5. Report on Program Initiatives

A. Hawaii Fish Flow Workshop

B. Review and Comment: National Academy of Science Review of the Marine Recreational Information Program

C. Review and Comment: Feasibility of a Non-Commercial Marine Fishing Registry, Permit, or License System in Hawaii

6. Review and Update of SSPC Strategic Plan

7. Review and Update of SSPC Research Priorities

8. Membership Changes

9. Recommendations

10. Other Business

Agenda for the MPCCC Meeting

8:30 a.m.-5 p.m., Wednesday, April 5, 2017

1. Welcome and Approval of Agenda

2. Introductions/Regional Updates

3. Update on Pacific Islands Regional Action Plan for the NOAA Climate Science Strategy

4. Update on MAFAC Resilience Working Group and Climate and Marine Resources Task Force

5. Overview of 2015 Annual Reports for the Fishery Ecosystem Plans of the Western Pacific Region—Where They Are and How to Use Them

6. Overview of 2016 Annual Report Components

A. Contractor Recommendations on Climate Change Module

B. 166th Council Recommendations

C. Draft 2016 Climate Change Indicators From Plan Team

i. Pelagic

ii. Archipelagic

D. Draft 2016 Marine Planning Indicators From Plan Team

i. Pelagic

ii. Archipelagic

E. Chapter 3: Data Integration Workshop

7. Public Comment on Draft 2016 Annual Reports

8. Committee Discussion and Recommendation on Draft 2016 Annual Reports

8:30 a.m.-5 p.m., Thursday, April 6, 2017

9. Review of Existing Climate Change Outreach and Resources by Island Area

A. American Samoa

B. Hawaii

C. Guam

D. CNMI

10. Island Area Breakouts to Identify and Develop Climate Change Outreach Resources Focused on Fisheries and Fishing Communities

11. Presentation and Discussion of Breakout Results

A. American Samoa

B. Hawaii

C. Guam

D. CNMI

12. Public Comment on MPCC Outreach

13. Committee Discussion and Recommendations on MPCC Outreach

14. Old Business

A. MPCC Action Plan Update

B. Other

15. New Business

A. WPRFMC Five-Year Research Priorities

B. Cooperative Research Priorities

C. Other

16. Public Comment on MPCC Action Plan and Research Priorities

17. Committee Discussion and Recommendations on MPCC Action Plan and Research Prorities

18. 2017-18 Committee Members and Officers

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: March 8, 2017.
Tracey L. Thompson,
Acting Deputy Director, Office of Sustainable Fisheries, National Marine Fisheries Service.

[FR Doc. 2017-04891 Filed 3-10-17; 8:45 am]

BILLING CODE 3510-22-P